DEPARTMENT OF COMMERCE

National Oceanic and Atmospheric Administration

50 CFR Part 622

[Docket No. 140819686-5999-02; RTID 0648-XF241]

Fisheries of the Caribbean, Gulf of America, and South Atlantic; 2025 Commercial Closure for Gag in the South Atlantic

AGENCY: National Marine Fisheries Service (NMFS), National Oceanic and Atmospheric Administration (NOAA), Commerce.

ACTION: Temporary rule; closure.

SUMMARY: NMFS implements an accountability measure for the commercial harvest of gag in South Atlantic Federal waters. NMFS projects that commercial landings of gag will reach the commercial annual catch limit (ACL) for 2025. Therefore, NMFS closes the commercial sector of gag in South Atlantic Federal waters to protect the gag resource from overfishing.

DATES: This temporary rule is effective from December 1, 2025, through December 31, 2025.

FOR FURTHER INFORMATION CONTACT: Mary Vara, NMFS Southeast Regional Office, telephone: 727-824-5305, email: mary.vara@noaa.gov.

SUPPLEMENTARY INFORMATION: The snapper-grouper fishery of the South Atlantic includes gag and is managed under the Fishery Management Plan for the Snapper-Grouper Fishery of the South Atlantic Region (FMP). The FMP was prepared by the South Atlantic Fishery Management Council and NMFS, approved by the Secretary of Commerce, and is implemented by NMFS under the authority of the Magnuson-Stevens Fishery Conservation and Management Act (Magnuson-Stevens Act) by regulations at 50 CFR part 622. All weights in this temporary rule are in gutted weight.

The commercial ACL (commercial quota) for gag for the 2025 fishing year is 171,687 pounds (lb) or 77,876 kilograms (kg) [50 CFR 622.190(a)(7)(iii)]. Regulations at 50 CFR 622.193(c)(1)(i) specify the commercial in-season accountability measure for gag in the South Atlantic. NMFS is required to close the commercial sector for the harvest of gag for the rest of the fishing year when the commercial ACL has been reached or is projected to be reached. NMFS projects that commercial landings of gag will reach the commercial ACL for the 2025 fishing year. Therefore, the commercial sector of gag is closed beginning on December 1, 2025, and will remain closed through December 31, 2025, the end of the current fishing year.

The recreational harvest of gag in the South Atlantic closed on June 26, 2025, and is closed through December 31, 2025 (90 FR 13425, March 24, 2025). Therefore, gag may not be harvested or possessed in or from South Atlantic Federal waters during this commercial closure, and the sale or purchase of gag from the South Atlantic is prohibited. In addition, these prohibitions apply to any person on a vessel issued a Federal commercial or charter vessel/headboat permit for South Atlantic snapper-grouper in South Atlantic Federal waters or state waters. The prohibition on sale or purchase does not apply to gag that were harvested, landed ashore, and sold before the effective period of this commercial closure, and were held in cold storage by a dealer or processor [50 CFR 622.190(c)(1)(i)]. The operator of a vessel with a valid Federal commercial vessel permit for South Atlantic snapper-grouper with gag on the vessel must have landed and bartered, traded, or sold such gag before December 1, 2025.

The 2026 fishing season for the commercial harvest of South Atlantic gag opens again on May 1, 2026 [50 CFR 622.183(b)(1)]. The commercial ACL (commercial quota) for gag for the 2026 fishing year is 215,051 lb (97,545 kg).

Classification

NMFS issues this action pursuant to section 305(d) of the Magnuson-Stevens Act. This action is required by 50 CFR 622.193(c)(1)(i), which was issued pursuant to section 304(b) of the Magnuson-Stevens Act and is exempt from review under Executive Order 12866.

Pursuant to 5 U.S.C. 553(b)(B), there is good cause to waive prior notice and an opportunity for public comment on this action, as notice and comment are unnecessary and contrary to the public interest. Such procedures are unnecessary because the regulations associated with the commercial closure of gag have already been subject to notice and public comment, and all that remains is to notify the public of the closure. Prior notice and opportunity for public comment on this action is contrary to the public interest because of the need to immediately implement the commercial closure to protect the gag resource in the South Atlantic. The capacity of the commercial fishing fleet allows for rapid harvest of the commercial quota, and any delay in the closure could result in the exceedance of the applicable quota. Prior notice and opportunity for public comment would require time and would potentially result in a harvest that exceeds the commercial quota.

For the reasons just stated, NMFS also finds good cause to waive the 30-day delay in the effectiveness of this action under 5 U.S.C. 553(d)(3).

Authority: 16 U.S.C. 1801 et seq.

Dated: November 25, 2025.
Kelly Denit,
Director, Office of Sustainable Fisheries, National Marine Fisheries Service.

[FR Doc. 2025-21628 Filed 11-26-25; 4:15 pm]

BILLING CODE 3510-22-P